DEPARTMENT OF AGRICULTURE

Natural Resources Conservation Service

[Docket No. NRCS-2022-0002]

Notice of Intent To Prepare an Environmental Impact Statement for the Cove-East Fork Virgin River Watershed Plan, Kane County, Utah

AGENCY: Natural Resources Conservation Service, USDA.

ACTION: Notice of Intent (NOI) to prepare an Environmental Impact Statement (EIS).

SUMMARY: The Natural Resources Conservation Service (NRCS) Utah State Office announces its intent to prepare an EIS for the Cove-East Fork Virgin River Watershed Plan EIS Project located within the East Fork Virgin River Watershed in Kane County, Utah. The EIS process will examine alternative solutions to provide adequate irrigation water in Kane and Washington counties during summer months, local water-based recreation, and green energy opportunities. This EIS will also serve as the necessary environmental documentation for development of a new Black Knoll borrow pit and potential expansion of the existing Bald Knoll borrow pit. Both pits are located on Bureau of Land Management (BLM) administered public lands and require BLM authorization. The BLM will be a cooperating agency in the development of this EIS. NRCS is requesting comments to identify significant issues, potential alternatives, information, and analyses relevant to the Proposed Action from all interested individuals, Federal and State agencies, and Tribes.

DATES: We will consider comments that we receive by April 28, 2022. Comments received later will be considered to the extent possible.

ADDRESSES: We invite you to submit comments in response to this notice. You may submit your comments through one of the methods below:

• Federal eRulemaking Portal: Go to http://www.regulations.gov and search for docket ID NRCS-2022-0002. Follow the online instructions for submitting comments; or

• Hand Delivery or Mail: Brian Parker, Biologist, Southwest Assistant Regional Manager, 1745 South Alma School Rd. Suite 220, Mesa, Arizona 85044. Please specify the docket ID NRCS-2022-0002.

All comments received will be posted and made publicly available on www.regulations.gov.

FOR FURTHER INFORMATION CONTACT: Mr. Norm Evenstad, Assistant State Conservationist—Water Resources; telephone: (801) 524-4569; email: norm.evenstad@usda.gov. Persons with disabilities who require alternative means for communication should contact the USDA Target Center at (202) 720-2600 (voice).

SUPPLEMENTARY INFORMATION:

Purpose and Need

The primary purpose for watershed planning and preparation of this EIS is to increase and maintain a reliable supply of water for local agricultural use and existing storage needs, increase water conservation, and improve water delivery efficiency in the Upper Virgin Watershed in Kane County, Utah, and for existing and future water demands in Washington County, Utah. Watershed planning is authorized under Public Law 83-566, the Watershed Protection and Flood Prevention Act of 1954, as amended, and Public Law 78-534, the Flood Control Act of 1944.

This action is needed because agriculture users in the Upper Virgin Watershed routinely experience water shortages during late summer months when East Fork Virgin River flows are depleted. Existing irrigation facilities have limited capabilities to divert water from the river, and there is currently no capacity for storage during non-use and high-flow periods. As a result, adequate water is not available to local users; therefore, the purpose of the action is to provide enhanced conservation and beneficial use of water by increasing water availability through collection and storage during non-use periods to provide adequate flows during the irrigation season.

Currently, a lack of irrigation water near the communities of Mt. Carmel, Orderville, and Glendale has resulted in a limitation of the amount of alfalfa and other crops that can be grown. In particularly dry years, the number of alfalfa cuttings has been reduced, resulting in a loss of production. Lands currently used for agricultural purposes in Washington County have also experienced a reduction in crop production.

Three other objectives are included as part of the proposed action. The existing Glendale hydroelectric plant does not meet the needs of the community, and the Orderville plant only generates power during the fall, winter, and early spring months. The project proposes a new Glendale facility and would make water available during the summer months at the Orderville site that could help meet energy needs. Secondly, the project plans to enhance existing irrigation systems to promote water conservation. Finally, project development would offer additional water-based recreation opportunities in the area, and water-based recreation activities are in high demand in Kane County.

Preliminary Proposed Action and Alternatives

The East Fork Virgin River watershed focused planning area is approximately 153 square miles. Two action alternatives and the no action alternative will be evaluated in the Draft EIS. The NRCS would provide technical and financial assistance for the proposed project through the NRCS Watershed Protection and Flood Prevention Program, and NRCS would also design and implement a selected alternative. The alternatives we intend to carry forward in the analysis are below:

1. No Action Alternative. Taking no action would consist of activities carried out if no federal action or funding were provided. The new Glendale facility would not be built, and no new irrigation facilities would be developed to provide additional water supply during the summer months. No improvements to the Mt. Carmel irrigation system would be made. The existing structures would continue to operate in their current condition and would not meet the purpose and need to increase and maintain additional water supply, as described above.

2. Action Alternative 1—Construction of Cove Reservoir (Proposed Action). Construction of a new reservoir (Cove Reservoir) within the East Fork Virgin River Watershed, plus additional irrigation system improvements in the Mt. Carmel, Orderville, and Glendale area.

For the Cove Reservoir, two sizes would be considered as sub-alternatives, a 6,055-acre-foot reservoir and a 4,000-acre-foot reservoir would be analyzed to increase water conservation. The irrigation improvements would convert the ditched system at Mt. Carmel to a pressurized system. A pressurized system would reduce water loss during transportation, conserving additional water and increasing the efficiency of the Mt. Carmel system. The currently inoperable Glendale hydroelectric power plant would be relocated and upgraded to produce twice its current power, and a new pipeline would be constructed to access the new plant.

3. Action Alternative 2—Alternate reservoir site. An alternate reservoir site with recreation facilities within the East Fork Virgin River Watershed, plus additional irrigation system improvements in the Mt. Carmel, Orderville, and Glendale area. The same irrigation improvements as in Action Alternative 1 are proposed. The alternative reservoir would have a capacity of around 6,000 acre-feet, with a maximum capacity of 6,750 acre-feet per the Zion National Park agreement. The reservoir would be located within the watershed area at another suitable location based on geological and environmental suitability.

Also, both action alternatives would include one new borrow pit at Black Knoll and expansion of the existing borrow pit at Bald Knoll. Both pits are located on Bureau of Land Management (BLM)-administered public lands. The BLM will need to provide approval following completion of the environmental analysis before any material can be removed from these pits.

Summary of Expected Impacts

An NRCS evaluation of this federally assisted action indicates that proposed alternatives may have significant local, regional, or national impacts on the environment. Potential impacts include wetland and flood plain alteration due to the construction of the reservoir. Potential realignment of roads and/or removal of structures could occur, depending on the reservoir location. Long-term beneficial impacts would occur with additional water supply provided to Kane County and Washington County, plus additional recreational opportunities at the reservoir. The proposed action would reduce on-going water shortages experienced by Kane County agriculture users during the summer months.

Anticipated Permits and Authorizations

The following permits and other authorizations are anticipated to be required:

• CWA Section 404 permit. Implementation of the proposed federal action would require a Clean Water Act (CWA) Section 404 permit from the U.S. Army Corps of Engineers. Permitting with the U.S. Army Corps of Engineers regarding potential wetland impacts is ongoing and will be finalized prior to final design and construction.

• CWA Section 401 permit. The project would also require water quality certification under Section 401 of the CWA and permitting under Section 402 of the CWA (National Pollutant Discharge Elimination System Permit).

• Dam safety and floodplain permit. Local dam safety and floodplain permits will be required.

• NHPA Section 106 consultation. Consultation with Tribal Nations and interested parties will be conducted as required by the National Historic Preservation Act of 1966 (as amended) (16 U.S.C. 470f).

• Wild and Scenic Rivers Act Section 7 Consultation. Consultation with the National Park Service regarding impacts to Virgin River outstandingly remarkable values downstream of the proposed project.

Schedule of Decision-Making Process

A Draft EIS will be prepared and circulated for review and comment by agencies and the public for at least 45 days per 40 CFR 1503.1, 1502.20, 1506.11, and 1502.17, and 7 CFR 650.13. The Draft EIS is anticipated to be published in the Federal Register approximately 10 months after publication of this NOI. A Final EIS is anticipated to be published within 8 months of completion of the public comment period for the DEIS.

There will be two decisions made and one or two Record(s) of Decision:

• NRCS Decision. The NRCS will decide whether to implement one of the action alternatives or the No Action Alternative. The Record of Decision will be completed after the required 30-day waiting period. The decision maker and responsible federal official for the NRCS is Emily Fife, Utah State Conservationist.

• BLM Decision. The BLM will decide to authorize the usage of one or more borrow pits to provide material for construction of the earthen dam for either action alternative.

Public Scoping Process

NRCS invites all interested individuals and organizations, public agencies, and Native American Tribes to comment on the scope of the EIS, including the project's purpose and need, alternatives proposed, new alternatives that should be considered, specific areas of study, data to be obtained or included in the analysis, and evaluation methodology. A virtual scoping meeting presenting the project and develop the scope of the EIS was held online via Zoom on October 20, 2021, from 6:00-7:30 p.m. MDT. Scoping meeting presentation materials, including a video recording of the meeting, is available on the project website, along with project background information at https://bit.ly/3AX7Pg4.

This meeting involved a project presentation followed by a group question and answer period. Project team members were available for discussion of individual questions. Scoping provides the ability for the public to provide input on the kinds of issues that should be addressed, what alternatives should be considered, impacts and additional research that should be considered, and any actions that could be related to the project. Comments received, including the names and addresses of those who comment, will be part of the public record.

Identification of Potential Alternatives, Information, and Analyses

NRCS invites agencies and individuals who have special expertise, legal jurisdiction, or interest in the Cove-East Fork Virgin River Watershed in Kane County, Utah to provide comments concerning the scope of the analysis and identification of relevant information and studies. All interested parties are invited to provide input related to the identification of potential alternatives, information, and analyses relevant to the Proposed Action in writing or during the public scoping meeting.

Authorities

This document is published pursuant to the National Environmental Policy Act (NEPA) regulations regarding publication of a notice of intent to issue an environmental impact statement (40 CFR 1501.9(d)). This EIS will be prepared to evaluate potential environmental impacts as required by section 102(2)(C) of the National Environmental Policy Act of 1969 (NEPA); the Council on Environmental Quality regulations (40 CFR parts 1500-1508); and NRCS regulations that implement NEPA in 7 CFR part 650. Watershed planning is authorized under the Watershed Protection and Flood Prevention Act of 1954, as amended, (Pub. L. 83-566) and the Flood Control Act of 1944 (Pub. L. 78-534). Also, the title and number of the federal assistance program in the Catalog of Federal Domestic Assistance to which this Notice of Funding Availability applies is 10.904 Watershed Protection and Flood Prevention.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (for example, braille, large print, audiotape, American Sign Language, etc.) should contact the responsible Agency or USDA TARGET Center at (202) 720-2600 (voice and TTY) or (844) 433-2774 (toll-free nationwide). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Emily Fife,
Utah State Conservationist, Natural Resources Conservation Service.

[FR Doc. 2022-06579 Filed 3-28-22; 8:45 am]

BILLING CODE 3410-16-P